DEPARTMENT OF COMMERCE

National Oceanic and Atmospheric Administration

[Docket Number: 130107013-3013-0]

RIN 0648-XC433

National Climate Assessment and Development Advisory Committee

AGENCY: Office of Oceanic and Atmospheric Research (OAR), National Oceanic and Atmospheric Administration (NOAA), Department of Commerce (DOC).

ACTION: Notice of availability for public comment.

SUMMARY: NOAA's Office of Oceanic and Atmospheric Research (OAR) publishes this notice on behalf of the National Climate Assessment and Development Advisory Committee (NCADAC) to announce the availability of a Draft Climate Assessment Report for public comment. This report, following revision and further review, will be submitted to the Federal Government for consideration in the Third National Climate Assessment.

DATES: Comments on this draft report must be received by 5:00 p.m. Eastern time on April 12, 2013.

ADDRESSES: The NCADAC Climate Assessment Report is available at http://ncadac.globalchange.gov.

Comments from the public will be accepted electronically at http://ncadac.globalchange.gov. Comments may be submitted only online and at this address; instructions for doing this are on the Web site.

All comments received will be considered by the relevant chapter authors and will become part of the public record once the final report is issued. However, until the report is finalized and released to the public, commenters' identities will not be shared with the authors. When the report is released in final form to the public, the comments, in association with the commenter's name, will be released alongside the author's Responses and will be available on http://globalchange.gov. No additional information a commenter submits as part of the registration process (such as an email address) will be disclosed publicly.

The final Climate Assessment Report will be available at the Web site mentioned above. The Department of Commerce will publish a notice informing the public of the final report when it is issued.

FOR FURTHER INFORMATION CONTACT: Dr. Cynthia Decker, Designated Federal Officer, National Climate Assessment and Development Advisory Committee, NOAA, 1315 East-West Highway—R/NCADAC, Silver Spring, Maryland 20910. (Phone: 301-734-1156, Fax: 301-713-1459) during normal business hours of 9 a.m. to 5 p.m. Eastern Time, Monday through Friday, or visit the NOAA NCADAC Web site at http://www.nesdis.noaa.gov/NCADAC/index.html.

SUPPLEMENTARY INFORMATION: The National Climate Assessment (NCA), which serves as a status report on climate change science and impacts, is conducted pursuant to the Global Change Research Act (GCRA) of 1990. The GCRA requires the government to provide a report to the President and the Congress every four years that integrates, evaluates, and interprets the findings of the U.S. Global Change Research Program (USGCRP). To assist the government in fulfilling this requirement, the Department of Commerce established the National Climate Assessment and Development Advisory Committee (NCADAC) in January 2011. The NCADAC is a federal advisory committee established under the Federal Advisory Committee Act of 1972 that is supported by the National Oceanic and Atmospheric Administration (NOAA). It develops and provides to the government proposed NCA Reports and advice regarding the sustained assessment process.

The NCA aims to incorporate advances in the understanding of climate science into larger social, ecological, and policy systems, and with this provide integrated analyses of impacts and vulnerability on sectors and regions of the U.S. The NCA discusses the effectiveness of mitigation and adaptation activities and identifies economic opportunities that may arise as the climate changes. It also serves to integrate scientific information from multiple sources and highlights key findings and significant gaps in knowledge.

The NCADAC welcomes all comments on the content of its Report at http://ncadac.globalchange.gov.

Dated: January 14, 2013.
Jason Donaldson,
Chief Financial Officer/Chief Administrative Officer, Office of Oceanic and Atmospheric Research, National Oceanic and Atmospheric Administration.

[FR Doc. 2013-00957 Filed 1-17-13; 8:45 am]

BILLING CODE 3510-KD-P